DEPARTMENT OF ENERGY

Federal Energy Regulatory Commission

Notice of Technical Meeting

| Project No.
Eagle Creek Hydro Power, LLC; Eagle Creek Water Resources, LLC; Eagle Creek Land Resources, LLC; | 10482-122
Eagle Creek Hydro Power, LLC; Eagle Creek Water Resources, LLC; Eagle Creek Land Resources, LLC; | 10481-069
Eagle Creek Hydro Power, LLC; Eagle Creek Water Resources, LLC; Eagle Creek Land Resources, LLC; | 9690-115

a. Date and Time of Meeting: November 8, 2022, at 2:00 p.m. Eastern Standard Time via Conference Call.

b. FERC Contact: Nicholas Ettema at nicholas.ettema@ferc.gov or (312) 596-4447.

c. Purpose of Meeting: On September 28, 2022, Commission staff issued the Environmental Assessment (EA) for the Mongaup River Projects consisting of: (1) the Swinging Bridge Hydroelectric Project No. 10482; (2) the Mongaup Falls Hydroelectric Project No. 10481; and (3) the Rio Hydroelectric Project No. 9690. The Mongaup River Projects are owned and operated by the co-licensees Eagle Creek Hydro Power, LLC, Eagle Creek Water Resources, LLC, and Eagle Creek Land Resources, LLC (collectively referred to as Eagle Creek). On October 18, 2022, the U.S. Fish and Wildlife Service (FWS) requested a meeting via email to discuss its concerns regarding the EA's determination that the Mongaup River Projects are not likely to adversely affect the federally listed endangered dwarf wedgemussel. Commission staff is meeting with FWS, Eagle Creek, and other interested participants via conference call, to discuss the determination for dwarf wedgemussel.

d. Proposed Agenda:

(1) Introduction of participants;

(2) Commission staff explains the purpose of the meeting;

(3) Participants discuss the determination of not likely to adversely affect for dwarf wedgemussel including any new or relevant information related to this determination.

(4) Participants discuss issue resolution and follow-up actions.

e. A summary of the meeting will be prepared and filed in the Commission's public file for the project.

f. All local, state, and federal agencies, Indian tribes, and other interested parties are invited to participate by phone. If interested, please contact Nicholas Ettema at nicholas.ettema@ferc.gov or (312) 596-4447, by November 7, 2022, to receive the conference call number and access code.

Dated: October 21, 2022.
Kimberly D. Bose,
Secretary.

[FR Doc. 2022-23417 Filed 10-26-22; 8:45 am]

BILLING CODE 6717-01-P